DEPARTMENT OF HEALTH AND HUMAN SERVICES

National Institutes of Health

National Institute of Environmental Health Sciences; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Institute of Environmental Health Sciences Special Emphasis Panel Effect of the Antiandrogen DDE on Anthropometric Measures at Birth.

Date: September 1, 2000.

Time: 1 p.m. to 4 p.m.

Agenda: To review and evaluate contract proposals.

Place: NIEHS, 79 T.W. Alexander Drive, Building 4401, Conference Room 3446, Research Triangle Park, NC 27709 (telephone conference call).

Contact Person: David P. Brown, Nat'l Institute of Environmental Health Sciences, P.O. Box 12233, Research Triangle Park, NC 27709; (919) 541-4964.

Name of Committee: National Institute of Environmental Health Sciences Special Emphasis Panel Cooperative Agreements (U13s).

Date: September 14, 2000.

Time: 10 a.m. to 11 a.m.

Agenda: To review and evaluate cooperative agreement applications.

Place: NIEHS—East Campus, 79 T.W. Alexander Drive, Building 4401, Room 3446, Research Triangle Park, NC 27709 (telephone conference call).

Contact Person: J. Patrick Mastin, Scientific Review Administrator, Scientific Review Branch/DERT, NIEHS, P.O. Box 12233 MD EC-30, Research Triangle Park, NC 27709, (919) 541-1446.

(Catalogue of Federal Domestic Assistance Program Nos. 93.113, Biological Response to Environmental Health Hazards; 93.114, Applied Toxicological Research and Testing; 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences, National Institutes of Health, HHS)

Dated: July 26, 2000.
LaVerne Y. Stringfield,
Director, Office of Federal Advisory Committee Policy.

[FR Doc. 00-19630 Filed 8-2-00; 8:45 am]

BILLING CODE 4140-01-M